DEPARTMENT OF ENERGY

Federal Energy Regulatory Commission

Combined Notice of Filings No. 2

Take notice that the Commission has received the following Natural Gas Pipeline Rate and Refund Report filings:

Docket Numbers: RP11-1674-001.

Applicants: Florida Gas Transmission Company, LLC.

Description: Florida Gas Transmission Company, LLC submits tariff filing per 154.203: Service Agreements—Compliance to be effective N/A.

Filed Date: 03/28/2011.

Accession Number: 20110328-5077.

Comment Date: 5 p.m. Eastern Time on Monday, April 11, 2011.

Docket Numbers: RP10-1152-001.

Applicants: Florida Gas Transmission Company, LLC.

Description: Florida Gas Transmission Company, LLC submits tariff filing per 154.203: Implement RP10-21 Rate Settlement to be effective 4/1/2011.

Filed Date: 03/29/2011.

Accession Number: 20110329-5093.

Comment Date: 5 p.m. Eastern Time on Monday, April 11, 2011.

Docket Numbers: RP11-1880-001.

Applicants: Gulf South Pipeline Company, LP.

Description: Gulf South Pipeline Company, LP submits tariff filing per 154.205(b): EnCana Amendment Filing to be effective 3/11/2011.

Filed Date: 03/29/2011.

Accession Number: 20110329-5076.

Comment Date: 5 p.m. Eastern Time on Monday, April 11, 2011.

Docket Numbers: RP00-257-001.

Applicants: Ozark Gas Transmission, L.L.C.

Description: Ozark Gas Transmission, L.L.C.'s Annual Actual Fuel Use Report.

Filed Date: 04/01/2011.

Accession Number: 20110401-5174.

Comment Date: 5 p.m. Eastern Time on Wednesday, April 13, 2011.

Docket Numbers: RP10-1398-002.

Applicants: El Paso Natural Gas Company.

Description: El Paso Natural Gas Company submits tariff filing per 154.203: System-Wide Rate Case Motion Filing to be effective 4/1/2011.

Filed Date: 04/01/2011.

Accession Number: 20110401-5001.

Comment Date: 5 p.m. Eastern Time on Wednesday, April 13, 2011.

Docket Numbers: CP11-5-001.

Applicants: Rager Mountain Storage Company LLC.

Description: Rager Mountain Storage Company LLC's application request for certificate of public convenience and necessity.

Filed Date: 03/31/2011.

Accession Number: 20110331-5295.

Comment Date: 5 p.m. Eastern Time on Wednesday, April 13, 2011.

Docket Numbers: CP11-6-001.

Applicants: Peoples Natural Gas Company LLC.

Description: Peoples Natural Gas Company LLC's application request for certificate of public convenience and necessity.

Filed Date: 03/31/2011.

Accession Number: 20110331-5301.

Comment Date: 5 p.m. Eastern Time on Wednesday, April 13, 2011.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Dated: April 4, 2011.
Nathaniel J. Davis, Sr.,
Deputy Secretary.

[FR Doc. 2011-9310 Filed 4-15-11; 8:45 am]

BILLING CODE 6717-01-P